ENVIRONMENTAL PROTECTION AGENCY

[EPA-R08-OW-2019-0219; FRL-9992-88-Region 8]

Proposed Issuance of National Pollutant Discharge Elimination System General Permit for Wastewater Discharges Associated With Drinking Water Production Located in the EPA Region 8 Indian Country; Correction

AGENCY: Environmental Protection Agency (EPA).

ACTION: Notice of availability for comment; correction.

SUMMARY: The Environmental Protection Agency (EPA) Region 8 is correcting the docket number for a notice of availability for comment that appeared in the Federal Register on April 18, 2019. The notice requested comments on the draft 2019 National Pollutant Discharge Elimination System (NPDES) drinking water general permit (DWGP) for wastewater discharges associated with drinking water treatment plants. The DWGP will authorize wastewater discharges from drinking water facilities located in Indian country in the EPA Region 8 in accordance with the terms and conditions described therein. This is the first issuance of the DWGP. EPA proposes to issue the permit for five (5) years and is seeking comment on the draft permit. The correct docket number appears in the heading and the DATES and ADDRESSES sections read correctly, below.

DATES: Comments must be received, in writing, on or before May 28, 2019.

ADDRESSES: Submit your comments, identified by Docket ID No. EPA-R08-OW-2019-0219, by the following method:

http://www.regulations.gov. Follow the on-line instructions for submitting comments.

Once submitted, comments cannot be edited or removed from www.regulations.gov. The EPA may publish any comment received. Do not submit information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Wastewater Program, Environmental Protection Agency (EPA), Region 8, 1595 Wynkoop Street, Denver, Colorado 80202-1129. The EPA requests that if at all possible, you contact the individual listed in the FOR FURTHER INFORMATION CONTACT section to view the hard copy of the docket. You may view the hard copy of the docket Monday through Friday, 8:00 a.m. to 4:00 p.m., excluding federal holidays.

FOR FURTHER INFORMATION CONTACT: Paul Garrison, Wastewater Program, U.S. Environmental Protection Agency, Region 8, Mailcode 8WD-CW-W, 1595 Wynkoop Street, Denver, Colorado 80202-1129, (303) 312-6016, garrison.paul@epa.gov.

SUPPLEMENTARY INFORMATION: Please refer to the Federal Register of Thursday April 18, 2019, pages 16259-16260, to read the SUPPLMENTARY INFORMATION in its entirety.

(Authority: Clean Water Act, 33 U.S.C. 1251, et seq.)

Dated: May 2, 2019.
Darcy O'Connor,
Director, Water Division.

[FR Doc. 2019-09388 Filed 5-7-19; 8:45 am]

BILLING CODE 6560-50-P